ENVIRONMENTAL PROTECTION AGENCY

[AMS-FRL-8311-3]

California State Motor Vehicle Pollution Control Standards; Request for Waiver of Federal Preemption; Opportunity for Public Hearing

AGENCY: Environmental Protection Agency (EPA).

ACTION: Notice announcing an additional hearing and hearing locations.

SUMMARY: EPA previously announced the opportunity for public hearing and written comment on the California Air Resources Board's request for a waiver of preemption for its Greenhouse Gas Emission (GHG) regulations for passenger cars, light-duty trucks and medium-duty passenger vehicles beginning with the 2009 model year (MY). This previous announcement occurred on April 30, 2007 at 72 FR 21260. By this notice EPA is announcing the location of the May 22, 2007 hearing which commences at 9 a.m. EPA is also announcing an additional hearing, and location, for May 30, 2007 which will commence at 9 a.m. If you wish to present testimony at the May 22, 2007 hearing please follow the directions provided at 72 FR 21260. If you wish to present testimony at the May 30, 2007 hearing please follow the contact directions below.

ADDRESSES: The May 22, 2007 hearing will take place at the EPA Potomac Yard Conference Center, 2777 Crystal Drive—Room S-1204, Arlington, VA 22202. The May 30, 2007 hearing will take place at the Byron Sher Auditorium, Cal/EPA Headquarters, 1001 I Street, Sacramento, CA 95814.

FOR FURTHER INFORMATION CONTACT: If you wish to present testimony at the Sacramento, CA hearing then provide notification by May 23, 2007 to David Dickinson, Compliance and Innovative Strategies Division (6405J), U.S. Environmental Protection Agency, 1200 Pennsylvania Ave, NW., Washington, DC 20460, e-mail address: Dickinson.David@EPA.GOV.

Dated: May 4, 2007.
William L. Wehrum,
Acting Assistant Administrator, Office of Air and Radiation.

[FR Doc. E7-9025 Filed 5-9-07; 8:45 am]

BILLING CODE 6560-50-P